FEDERAL ELECTION COMMISSION

Sunshine Act Notices

AGENCY: Federal Election Commission.

The Open Meeting Scheduled For Thursday, March 12, 2009, Was Cancelled.

DATE AND TIME: Wednesday, March 18, 2009, 11 a.m.

PLACE: 999 E Street, NW., Washington, DC (ninth floor)

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE AND TIME: Thursday, March 19, 2009, at 10 a.m.

PLACE: 999 E Street, NW., Washington, DC (ninth floor).

STATUS: This meeting will be open to the public.

ITEMS TO BE DISCUSSED: Correction and Approval of Minutes.

Draft Advisory Opinion 2009-01: Socialist Workers Party by counsel, Michael Krinsky, Esq., and Lindsey Frank, Esq.

Draft Advisory Opinion 2009-04: Al Franken for U.S. Senate and the Democratic Senatorial Campaign Committee, by Marc E. Elias, Esq.

2009 Legislative Recommendations.

Electronic Distribution of FEC Record.

Management and Administrative Matters.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-5879 Filed 3-18-09; 8:45 am]

BILLING CODE: 6715-01-M